FEDERAL COMMUNICATIONS COMMISSION

Notice of Public Information Collection(s) Being Reviewed by the Federal Communications Commission for Extension Under Delegated Authority 5 CFR 1320 Authority, Comments Requested

September 16, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments on or before November 25, 2002.

ADDRESSES: Direct all comments to Les Smith, Federal Communications Commissions, Room 1-A804, 445 12th Street, SW., Washington, DC 20554, or via the Internet to lesmith@fcc.gov.

FOR FURTHER INFORMATION CONTACT: For additional information or copies of the information collections contact Les Smith at 202-418-0217 or via the Internet at lesmith@fcc.gov.

SUPPLEMENTARY INFORMATION: OMB Control Number: 3060-0219.

Title: Section 90.49(a)(2)(xi), Communications Standby Facilities “Special Eligibility Showing”.

Form Number: N/A.

Type of Review: Extension of existing collection.

Respondents: Business or other for-profit entities.

Number of Respondents: 200.

Estimated Time per Response: 0.75 hours.

Total Annual Burden: 150 hours.

Total Annual Cost: None.

Needs and Uses: 47 CFR section 90.49(a)(2)(xi) requires each communications common carrier that operates communications circuits that normally carry essential communications is eligible to apply for standby radio facility authorization only for transmissions during periods when normal circuits are inoperable due to special circumstances. The initial application for authorization must include a statement describing the desired radio communications facilities, the proposed operating method, a description of the normal messages, and an explanation of how their disruption will endanger life or public property.

OMB Control: 3060-0251.

Title: Section 74.833, Temporary Authorizations.

Form Number: N/A.

Type of Review: Extension of a currently approved collection.

Respondents: Business or other for-profit entities.

Number of Respondents: 6.

Estimated Time per Response: 2 hours.

Frequency of Response: On occasion reporting requirements.

Total Annual Burden: 12 hours.

Total Annual Cost: None.

Needs and Uses: 47 CFR section 74.833 requires that requests for special temporary authorization be made by informal applications for low power auxiliary station operations, which cannot be conducted in accordance with section 74.24 of the FCC's rules, and for operations of a temporary nature. Section 74.24 states that classes of broadcast auxiliary stations may be operated on a short-term basis under the authority conveyed by a part 73 licensee without prior authorization from the FCC, subject to certain conditions. The FCC staff will use these data to insure that the temporary operation of a low power auxiliary station does not cause interference to other existing stations and to assure compliance with current FCC rules and regulations.

OMB Control Number: 3060-0435.

Title: Section 80.361 Frequencies for Narrow-Band Direct-Printing (NB-DP) and Data Transmissions.

Form Number: N/A.

Type of Review: Extension of existing collection.

Respondents: Business or other for-profit entities; and Individuals or households.

Number of Respondents: 2.

Estimated Time per Response: 2 hours.

Total Annual Burden: 4 hours.

Total Annual Cost: None.

Needs and Uses: Under 47 CFR section 80.361, public coast station applicants must submit a “showing of need” to obtain new or additional narrow-band direct-printing (NB-DP) frequencies. Applicants for new or additional NB-DP frequencies must also show the service schedule for each currently licensed or proposed series of NB-DP frequencies. The need for additional frequencies is based on showing a minimum 40% usage of existing NB-DP frequencies. The FCC uses this information to determine whether to grant a public coast station's application for a NB-DP frequency and if these frequencies are being hoarded or under utilitzed.

OMB Control Number: 3060-0543.

Title: Section 21.913, Signal Booster Stations.

Form Number: N/A.

Type of Review: Extension of a currently approved collection.

Respondents: Business or other for-profit.

Number of Respondents: 250.

Estimated Time per Response: 0.5 to 2.5 hours.

Frequency of Response: On occasion reporting requirements.

Total Annual Burden: 125.

Total Annual Cost: $90,000.

Needs and Uses: 47 CFR section 21.913(e) requires each applicant for an MDS signal booster station to obtain written permission from the licensee of each MDS, ITFS, and OFS station whose signal is retransmitted. Section 21.913(g) permits an MDS or ITFS licensee to install and commence operation of low power signal booster stations without a formal application, but the licensees must submit a certification within 48 hours of installation of the booster station to demonstrate compliance with the various components of sections 21.913(g). The written consent statements under section 21.913(e) are attached to the FCC Form 304 to verify that the applicant has permission to retransmit the signal of other licensees' stations, and under section 21.913(g) to note that the applicant has compiled with guidelines of the certification process and that the booster will not cause harmful interference.

OMB Control Number: 3060-0663.

Title: Section 21.934, Assignment or Transfer of Control of BTA Authorization.

Form Number: N/A.

Type of Review: Extension of a currently approved collection.

Respondents: Business or other for-profit entities.

Number of Respondents: 50.

Estimated Time Per Response: 1 hour.

Frequency of Response: On occasion reporting requirement.

Total Annual Burden: 50 hours.

Total Annual Cost: None.

Needs and Uses: 47 CFR Section 21.934 requires a Basic Trading Area (BTA) authorization holder to file a statement that its authorization was obtained through competitive bidding, when seeking approval for a transfer of control or assignment of the authorization within three years of receiving the authorization through competitive bidding procedures. Along with this statement, the applicant must also file copies of documents containing information on the amount of consideration. The FCC staff use this information to determine whether there has been unjust enrichment to the person selling the station.

Federal Communications Commission.
Marlene H. Dortch,
Secretary.

[FR Doc. 02-24210 Filed 9-23-02; 8:45 am]

BILLING CODE 6712-01-P